DEPARTMENT OF COMMERCE

National Institute of Standards and Technology

Manufacturing Extension Partnership Advisory Board

AGENCY: National Institute of Standards and Technology, Department of Commerce.

ACTION: Notice of public meeting.

SUMMARY: Pursuant to the Federal Advisory Committee Act, 5 U.S.C. app., notice is hereby given that the Manufacturing Extension Partnership (MEP) Advisory Board, National Institute of Standards and Technology (NIST), will meet Sunday, April 19, 2009, from 8:30 a.m. to 4 p.m. This meeting is being held in conjunction with MEP's National Conference in Orlando, Florida. The MEP Advisory Board is composed of ten members appointed by the Director of NIST who were selected for their expertise in the area of industrial extension and their work on behalf of smaller manufacturers. The Board was established to fill a need for advice and assessment on MEP's plans, strategies and performance. MEP is a unique program consisting of centers across the United States and Puerto Rico, with partnerships at the State, Federal, and local levels. The Board provides input and advice on MEP's programs, plans, and policies. At this meeting, the Board will address MEP's sustainability initiatives and efforts to deploy services into the U.S. manufacturing economy. The Board's agenda may include other Board business.

DATES: The meeting will convene April 19, 2009 at 8:30 a.m. and will adjourn at 4 p.m. on April 19, 2009.

ADDRESSES: The meeting will be held at Orlando World Center Marriott Resort & Convention Center, 8701 World Center Drive, Orlando, Florida 32821. Any interested person wishing to attend this meeting should submit his or her name, e-mail address and phone number to Susan Hayduk (susan.hayduk@nist.gov, (301) 975-5614) no later than c.o.b. April 9, 2009. Those who are unable to attend in person are invited to submit written statements to the MEP Advisory Board. Please send your statements to Karen Lellock at karen.lellock@nist.gov.

FOR FURTHER INFORMATION CONTACT: Karen Lellock, Manufacturing Extension Partnership, National Institute of Standards and Technology, Gaithersburg, Maryland 20899-4800, telephone number (301) 975-4269.

Dated: March 19, 2009.
Richard Kayser,
Chief Scientist.

[FR Doc. E9-6906 Filed 3-26-09; 8:45 am]

BILLING CODE 3510-13-P